DEPARTMENT OF COMMERCE

National Oceanic and Atmospheric Administration

50 CFR Part 229

[I.D. 051006C]

Taking of Marine Mammals Incidental to Commercial Fishing Operations; Bottlenose Dolphin Take Reduction Plan (BDTRP) Regulations; Sea Turtle Conservation; Restrictions to Fishing Activities

AGENCY: National Marine Fisheries Service (NMFS), National Oceanic and Atmospheric Administration (NOAA), Commerce.

ACTION: Notice of workshops.

SUMMARY: NMFS published a final rule on April 24, 2006, to implement the Bottlenose Dolphin Take Reduction Plan (BDTRP) and amend the Mid-Atlantic large mesh gillnet rule. NMFS is announcing workshops on these new regulations. The purpose of the workshops is to provide opportunities for commercial fishermen who are affected by the new regulations to learn about and understand any new requirements. The workshops will consist of presentations on the components of the final rule and gear research related to the BDTRP, as well as an opportunity to ask questions. Eleven workshops are planned from New Jersey through the east coast of Florida, which is the geographic scope of the BDTRP.

DATES: See SUPPLEMENTARY INFORMATION under the heading “Workshop Dates, Times, and Locations” for the dates and locations of the workshops.

ADDRESSES: Copies of the final rule, Environmental Assessment, Final Regulatory Flexibility Analysis, the Bottlenose Dolphin Take Reduction Team meeting summaries, and the complete citations for all references used in this rulemaking may be obtained from the persons listed under FOR FURTHER INFORMATION CONTACT or online at http://www.nmfs.noaa.gov/pr/interactions/trt/bdtrp.htm.

FOR FURTHER INFORMATION CONTACT: Stacey Carlson, NMFS, Southeast Region, 727-824-5312, Stacey.Carlson@noaa.gov; Kristy Long, NMFS, Office of Protected Resources, 301-713-2322, Kristy.Long@noaa.gov; or David Gouveia, NMFS, Northeast Region, 978-281-9300, David.Gouveia@noaa.gov. Individuals who use telecommunications devices for the deaf (TDD) may call the Federal Information Relay Service at 1-800-877-8339 between 8 a.m. and 4 p.m. eastern time, Monday through Friday, excluding Federal holidays.

SUPPLEMENTARY INFORMATION: NMFS issued the final rule (71 FR 24776, April 24, 2006) to implement the regulatory management measures of the BDTRP to reduce the incidental mortality and serious injury (bycatch) of the western North Atlantic coastal bottlenose dolphin stock (dolphin) (Tursiops truncatus) in the Mid-Atlantic coastal gillnet fishery and eight other coastal fisheries operating within the dolphin's range. The final rule also revises the large mesh size restriction under the Mid-Atlantic large mesh gillnet rule for conservation of endangered and threatened sea turtles to provide consistency among Federal and state management measures. The measures contained in the final rule will implement gillnet effort reduction, gear proximity requirements, and gear or gear deployment modifications to reduce dolphin bycatch below the marine mammal stock's potential biological removal level. In addition to the regulatory measures contained in the final rule, the BDTRP includes non-regulatory aspects, such as outreach and education measures.

Workshop Dates, Times, and Locations

May 8, 2006, 7-9 p.m., Manahawkin, NJ - 151 Route 72 East, Manahawkin, NJ 08060.

May 9, 2006, 7-9 p.m., Ocean City, MD - Clarion Resort, Fontainbleau Hotel, 10100 Coastal Highway, Ocean City, MD 21842.

May 15, 2006, 7-9 p.m., Virginia Beach, VA - Virginia Aquarium and Marine Science Center, 717 General Booth Boulevard, Virginia Beach, VA 23451.

May 16, 2006, 7-9 p.m., Chincoteague, VA - The Chincoteague Center, 6155 Community Drive, Chincoteague, VA 23336.

May 17, 20006, 7-9 p.m., Manteo, NC - Roanoke Island Festival Park, One Festival Park, Manteo, NC 27954.

May 18, 2006, 7-9 p.m., Morehead City, NC - Joslyn Hall Auditorium, Carteret Community College, 3505 Arendell Street, Morehead City, NC 28557.

May 19, 2006, 7-9 p.m., Wilmington, NC - Southern District Office, North Carolina Division of Marine Fisheries, 127 Cardinal Drive, Wilmington, NC 28405.

May 22, 2006, 7-9 p.m., Beaufort, SC - Beaufort County Clemson Extension Service Office, 102 Beaufort Industrial Village, Suite 101, Beaufort, SC 29901.

May 23, 2006, 7-9 p.m., Midway, GA - Holton's Restaurant, 13711 Oglethorpe Highway (off I-95 exit 76), Midway, GA 31320.

May 24, 2006, 7-9 p.m., Mayport, FL - Marine Science Educational Center, 1347 Palmer Street, Mayport, FL 32233.

May 25, 2006, 7-9 p.m., Fort Pierce, FL - Fort Pierce Branch Library, 101 Melody Lane, Fort Pierce, FL 34950.

Dated: May 10, 2006.
Angela Somma,
Acting Director, Office of Protected Resources, National Marine Fisheries Service.

[FR Doc. E6-7441 Filed 5-15-06; 8:45 am]

BILLING CODE 3510-22-S